DEPARTMENT OF HOMELAND SECURITY

Coast Guard

[USCG-2012-0082]

Information Collection Requests to Office of Management and Budget

AGENCY: Coast Guard, DHS.

ACTION: Sixty-day notice requesting comments.

SUMMARY: In compliance with the Paperwork Reduction Act of 1995, the U.S. Coast Guard intends to submit Information Collection Requests (ICRs) to the Office of Management and Budget (OMB), Office of Information and Regulatory Affairs (OIRA), requesting approval of a revision to the following collections of information: 1625-0012, Certificate of Discharge to Merchant Mariners and 1625-0040, Application for Merchant Mariner Credential (MMC), Merchant Mariner Medical Certificate Evaluation Report, Small Vessel Sea Service Form, DOT/USCG Periodic Drug Testing Form, and Merchant Mariner Evaluation of Fitness for Entry Level Ratings. Our ICRs describe the information we seek to collect from the public. Before submitting these ICRs to OIRA, the Coast Guard is inviting comments as described below.

DATES: Comments must reach the Coast Guard on or before May 22, 2012.

ADDRESSES: You may submit comments identified by Coast Guard docket number [USCG-2012-0082] to the Docket Management Facility (DMF) at the U.S. Department of Transportation (DOT). To avoid duplicate submissions, please use only one of the following means:

(1) Online: http://www.regulations.gov.

(2) Mail: DMF (M-30), DOT, West Building Ground Floor, Room W12-140, 1200 New Jersey Avenue SE., Washington, DC 20590-0001.

(3) Hand delivery: Same as mail address above, between 9 a.m. and 5 p.m., Monday through Friday, except Federal holidays. The telephone number is 202-366-9329.

(4) Fax: 202-493-2251. To ensure your comments are received in a timely manner, mark the fax, to attention Desk Officer for the Coast Guard.

The DMF maintains the public docket for this Notice. Comments and material received from the public, as well as documents mentioned in this Notice as being available in the docket, will become part of the docket and will be available for inspection or copying at room W12-140 on the West Building Ground Floor, 1200 New Jersey Avenue SE., Washington, DC, between 9 a.m. and 5 p.m., Monday through Friday, except Federal holidays. You may also find the docket on the Internet at http://www.regulations.gov.

Copies of the ICRs are available through the docket on the Internet at http://www.regulations.gov. Additionally, copies are available from: Commandant (CG-611), Attn Paperwork Reduction Act Manager, U.S. Coast Guard, 2100 2nd St. SW., STOP 7101, Washington, DC 20593-7101.

FOR FURTHER INFORMATION CONTACT: Contact Ms. Kenlinishia Tyler, Office of Information Management, telephone 202-475-3652, or fax 202-475-3929, for questions on these documents. Contact Ms. Renee V. Wright, Program Manager, Docket Operations, 202-366-9826, for questions on the docket.

SUPPLEMENTARY INFORMATION:

Public participation and request for comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collections. There is one ICR for each Collection.

The Coast Guard invites comments on whether these ICRs should be granted based on the Collections being necessary for the proper performance of Departmental functions. In particular, the Coast Guard would appreciate comments addressing: (1) The practical utility of the Collections; (2) the accuracy of the estimated burden of the Collections; (3) ways to enhance the quality, utility, and clarity of information subject to the Collections; and (4) ways to minimize the burden of the Collections on respondents, including the use of automated collection techniques or other forms of information technology. In response to your comments, we may revise these ICRs or decide not to seek approval of revisions of the collection. We will consider all comments and material received during the comment period.

We encourage you to respond to this request by submitting comments and related materials. Comments must contain the OMB Control Number of the ICR and the docket number of this request, [USCG-2012-0082], and must be received by May 22, 2012. We will post all comments received, without change, to http://www.regulations.gov. They will include any personal information you provide. We have an agreement with DOT to use their DMF. Please see the “Privacy Act” paragraph below.

Submitting Comments

If you submit a comment, please include the docket number [USCG-2012-0082], indicate the specific section of the document to which each comment applies, providing a reason for each comment. You may submit your comments and material online (via http://www.regulations.gov), by fax, mail, or hand delivery, but please use only one of these means. If you submit a comment online via www.regulations.gov, it will be considered received by the Coast Guard when you successfully transmit the comment. If you fax, hand deliver, or mail your comment, it will be considered as having been received by the Coast Guard when it is received at the DMF. We recommend you include your name, mailing address, an email address, or other contact information in the body of your document so that we can contact you if we have questions regarding your submission.

You may submit your comments and material by electronic means, mail, fax, or delivery to the DMF at the address under ADDRESSES; but please submit them by only one means. To submit your comment online, go to http://www.regulations.gov, and type “USCG-2012-0082” in the “Keyword” box. If you submit your comments by mail or hand delivery, submit them in an unbound format, no larger than 8½; by 11 inches, suitable for copying and electronic filing. If you submit comments by mail and would like to know that they reached the Facility, please enclose a stamped, self-addressed postcard or envelope. We will consider all comments and material received during the comment period and will address them accordingly.

Viewing comments and documents: To view comments, as well as documents mentioned in this Notice as being available in the docket, go to http://www.regulations.gov, click on the “read comments” box, which will then become highlighted in blue. In the “Keyword” box insert “USCG-2012-0082” and click “Search.” Click the “Open Docket Folder” in the “Actions” column. You may also visit the DMF in Room W12-140 on the ground floor of the DOT West Building, 1200 New Jersey Avenue SE., Washington, DC 20590, between 9 a.m. and 5 p.m., Monday through Friday, except Federal holidays.

Privacy Act

Anyone can search the electronic form of comments received in dockets by the name of the individual submitting the comment (or signing the comment, if submitted on behalf of an association, business, labor union, etc.). You may review a Privacy Act statement regarding Coast Guard public dockets in the January 17, 2008, issue of the Federal Register (73 FR 3316).

Information Collection Requests

1. Title: Certificate of Discharge to Merchant Mariners.

OMB Control Number: 1625-0012.

Summary: Title 46, United States Code, 10311 requires each master or individual in charge of a vessel, for each merchant mariner being discharged from the vessel to prepare a Certificate of Discharge to Merchant Mariners and two copies. These documents are used to establish evidence of sea service aboard U.S. flagged merchant vessels for merchant mariners to upgrade their credentials, establish proof of eligibility for union and other benefits, and in litigation where vessel service is an issue.

Need: The information collected provides the U.S. Coast Guard evidence of sea service used in determining eligibility for issuance of a merchant mariner credential, to determine eligibility for various benefits such as medical and retirement, and to provide information to the U.S. Maritime Administration (MARAD) on the availability of mariners in a time of a national emergency.

Forms: CG-718A.

Respondents: Shipping companies, masters or individuals in charge of a vessel.

Frequency: On occasion.

Burden Estimate: The estimated burden has decreased from 2,443 hours to 1,478 hours.

2. Title: Application for Merchant Mariner Credential (MMC), Merchant Mariner Medical Certificate Evaluation Report, Small Vessel Sea Service Form, DOT/USCG Periodic Drug Testing Form, Merchant Mariner Evaluation of Fitness for Entry Level Ratings.

OMB Control Number: 1625-0040.

Summary: The Application for Merchant Mariner Credential (MMC), Merchant Mariner Medical Certificate Evaluation Report, Small Vessel Sea Service Form, DOT/USCG Periodic Drug Testing Form, and Merchant Mariner Evaluation of Fitness for Entry Level Ratings, contains the following information: Signature of applicant and supplementary material required to show that the mariner meets the mandatory requirements for the credential or medical certificate sought; proof of applicant passing all applicable vision, hearing, medical, and/or physical exams; negative chemical test for dangerous drugs; discharges or other documentary evidence of sea service indicating the name, tonnage, and propulsion power of the vessels, dates of service, capacity in which the applicant served, and on what waters.

Need: Title 46 United States Code (U.S.C.) Subtitle II, Part E, Title 46 Code of Federal Regulation (CFR) Part 10, Subpart B, and Proposed Rules entitled “Implementation of the Amendments to the International Convention on Standards of Training, Certification and Watchkeeping for Seafarers (STCW), 1978, and Changes to Domestic Endorsements” (RIN 1625-AA16) (Docket No. USCG-2004-17914), (A Supplemental Notice of Proposed Rulemaking published in the Federal Register on August 1, 2011 (76 FR 45908)) require merchant mariner credential (MMC) and medical certificate applicants to apply at any of the Regional Examination Centers located around the nation. Merchant mariner credentials are established for individuals who are required to hold a MMC under Subtitle II. The Coast Guard has the responsibility of issuing MMCs and medical certificates to applicants found qualified as to age, character, habits of life, experience, professional qualifications, and physical fitness. The instruments contained within OMB #1625-0040 serve as a means for the applicant to apply for a MMC and medical certificate.

Forms: CG-719B, CG-719K, CG-719S, CG-719P, CG-719K/E.

Respondents: Applicants for Merchant Mariner Credentials (MMC), whether original, renewal, duplicate, raise of grade, or a new endorsement on a previously issued MMC. Applicants for Medical Certificates to include Standards of Training, Certification and Watchkeeping for Seafarers (STCW) endorsed credentialed mariners, and first-class pilots as defined in the proposed rules, Implementation of the Amendments to the International Convention on STCW for Seafarers, 1978, and Changes to Domestic Endorsements (Docket No. USCG-2004-17914).

Frequency: On occasion.

Burden Estimate: The estimated burden has increased from 54,416 hours to 57,083 hours a year.

Dated: March 16, 2012.
R. E. Day,
Rear Admiral, U.S. Coast Guard, Assistant Commandant for Command, Control, Communications, Computers and Information Technology.

[FR Doc. 2012-6981 Filed 3-22-12; 8:45 am]

BILLING CODE 9110-04-P